COMMITTEE FOR PURCHASE FROM PEOPLE WHO ARE BLIND OR SEVERELY DISABLED

Procurement List; Addition and Deletions

AGENCY: Committee for Purchase from people Who Are Blind or Severely Disabled.

ACTION: Additions to deletions from procurement list.

SUMMARY: This action adds to the Procurement List a product to be furnished by a nonprofit agency employing persons who are blind or have other severe disabilities, and deletes from the Procurement List services previously furnished by such agencies.

EFFECTIVE DATE: August 31, 2003.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION:

Additions

On May 30, 2003, the Committee for Purchase From People Who Are Blind or Severely Disabled published notice (68 FR 32458) of proposed addition to the Procurement List. After consideration of the material presented to it concerning capability of the qualified nonprofit agency to provide the product and impact of the addition on the current or most recent contractor, the Committee has determined that the product list below is suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the product to the Government.

2. The action will result in authorizing small entities to furnish the product to the Government.

3. There are no known regulatory alternatives which would accomplish the objectives of the Javits-Wagner-O'Day Act (41 U.S.C. 46-48c) in connection with the product proposed for addition to the Procurement List.

(End of Certification)

Accordingly, the following product is added to the Procurement List:

Product

Product/NSN: Belt, Women's Cotton Web, Black w/Gold Clip, 8445-01-501-0232.

NPA: Travis Association for the Blind, Austin, Texas.

Contract Activity: Defense Supply Center Philadelphia, Philadelphia, Pennsylvania.

Deletions

On May 30, 2003, the Committee for Purchase From People Who Are Blind or Severely Disabled published notice (68 FR 32459) of proposed deletions to the Procurement List. After consideration of the relevant matter presented, the committee has determined that the services listed below are no longer suitable for procurement by the Federal Government under 41 U.S.C. 46-48c and 41 CFR 51-2.4.

Regulatory Flexibility Act Certification

I certify that the following action will not have a significant impact on a substantial number of small entities. The major factors considered for this certification were:

1. The action may not result in any additional reporting, recordkeeping or other compliance requirements for small entities.

2. The action may result in authorizing small entities to furnish the services to the Government.

3. There are no known regulatory alternatives which would accomplish the objectives of the Javits-Wagner-O'Day Act (41 U.S.C. 46-48c) in connection with the services deleted from the Procurement List.

Accordingly, the following services are deleted from the Procurement List:

Services

Service Type/Location: Janitorial/Custodial, Petroglyph National Monument Headquarters, 6001 Unser Boulevard NW, Albuquerque, New Mexico.

NPA: RCI, Inc., Albuquerque, New Mexico.

Contract Activity: Department of Interior.

Service Type/Location: Janitorial/Custodial, Social Security Administration, Data Operations Center and Annex, Albuquerque, New Mexico.

NPA: Adelante Development Center, Inc., Albuquerque, New Mexico.

Contract Activity: Social Security Administration, Baltimore, Maryland.

Sheryl D. Kennerly,
Director, Information Management.

[FR Doc. 03-19629 Filed 7-31-03; 8:45 am]

BILLING CODE 6353-01-M